DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice updates the VA Performance Review Board of the Department of Veterans Affairs that was published in the Federal Register on 70 FR 61510, October 24, 2005.

DATES: Effective Date: November 2, 2006.

FOR FURTHER INFORMATION CONTACT: Charlotte Moment, Office of Human Resources Management (052B), Department of Veterans Affairs, 810 Vermont Avenue, NW., Washington, DC 20420, (202) 273-8165.

VA Performance Review Board (PRB)

R. Allen Pittman, Assistant Secretary for Human Resources and Administration (Chairperson).

Thomas G. Bowman, Chief of Staff.

Sharon K. Barnes, Deputy Chief of Staff (Alternate).

Ronald R. Aument, Deputy Under Secretary for Benefits, Veterans Benefits Administration.

Michael Walcoff, Associate Deputy Under Secretary for Operations, Veterans Benefits Administration (Alternate).

Gerald M. Cross, M.D., FAAFP, Acting Principal Deputy Under Secretary for Health, Veterans Health Administration.

William F. Feeley, Deputy Under Secretary for Health for Operations and Management, Veterans Health Administration (Alternate).

Arthur S. Hamerschlag, Chief of Staff, Veterans Health Administration (Alternate).

John H. Thompson, Deputy General Counsel.

Rita Reed, Principal Deputy Assistant Secretary for Management.

Jon A. Wooditch, Deputy Inspector General.

Robert T. Howard, Executive Director.

Kenneth M. Greenberg, Executive Secretary to the Department.

Richard Wannemacher, Jr., Senior Advisor.

Veterans Benefits Administration PRB

Ronald R. Aument, Deputy Under Secretary for Benefits, (Chairperson).

Geraldine V. Breakfield, Associate Deputy Under Secretary for Management.

Jack F. McCoy, Associate Deputy Under Secretary for Policy & Program Management.

Michael Walcoff, Associate Deputy Under Secretary for Field Operations.

James Bohmbach, Chief Financial Officer.

Diana M. Rubens, Director, Western Area Office.

Sharon K. Barnes, Deputy Chief of Staff, Office of the Secretary.

Veterans Health Administration PRB

Gerald M. Cross, MD, FAAFP, Acting Principal Deputy Under Secretary for Health.

William F. Feeley, Vice-Chair, Deputy Under Secretary for Health for Operations and Management.

Linda W. Belton, Network Director, VISN 11.

Everett A. Chasen, Chief Communications Officer.

Jeanette A. Chirico-Post, MD, Network Director, VISN 1.

Barbara B. Fleming, MD, PhD, Chief Quality and Performance Officer.

Arthur S. Hamerschlag, VHA Chief of Staff.

W. Paul Kearns III, Acting Chief Financial Officer.

Robert E. Lynch, MD, Network Director, VISN 16.

James J. Nocks, M.D., Network Director, VISN 5.

Robert A. Petzel, MD, Network Director, VISN 23.

Catherine J. Rick, RN, MSN, Chief Nursing Officer.

James Roseborough, Network Director, VISN 12.

Patricia Vandenberg, Assistant Deputy Under Secretary for Health for Policy and Planning.

Nevin M. Weaver, Director, Management Support Office (Ex Officio).

Robert L. Wiebe, MD, Network Director, VISN 21.

Joseph A. Williams, Jr., Assistant Deputy Under Secretary for Health for Operations and Management.

Sharon K. Barnes, Deputy Chief of Staff, Office of the Secretary.

Office of Inspector General PRB

Elliot P. Lewis, Assistant Inspector General for Audit, Department of Labor.

Michael P. Stephens, Deputy Inspector General, Department of Housing and Urban Development, Office of Inspector General.

Thomas J. Howard, Deputy Inspector General, National Air and Space Administration, Office of Inspector General.

Dated: October 26, 2006.
R. James Nicholson,
Secretary of Veterans Affairs.

[FR Doc. E6-18419 Filed 11-1-06; 8:45 am]

BILLING CODE 8320-01-P